POSTAL SERVICE

Privacy Act of 1974; System of Records

AGENCY: Postal Service®.

ACTION: Notice of a modified system of records.

SUMMARY: The United States Postal Service® (USPS®) is proposing to revise one Customer Privacy Act Systems of Records (SOR). These updates are being made to implement an application to analyze and anticipate customer needs and assist sales staff.

DATES: These revisions will become effective without further notice on May 12, 2025, unless comments received on or before that date result in a contrary determination.

ADDRESSES: Comments may be submitted via email to the Privacy and Records Management Office, United States Postal Service Headquarters (uspsprivacyfedregnotice@usps.gov). Arrangements to view copies of any written comments received, to facilitate public inspection, will be made upon request.

FOR FURTHER INFORMATION CONTACT: Janine Castorina, Chief Privacy and Records Management Officer, Privacy and Records Management Office, uspsprivacyfedregnotice@usps.gov and by phone at 202-268-2000.

SUPPLEMENTARY INFORMATION:

I. Background

USPS seeks to implement an application to analyze customer interactions with campaign materials, to anticipate customer needs, and to analyze the effectiveness of USPS campaigns.

II. Rationale for Changes to USPS Privacy Act Systems of Records

In its efforts to serve the American people, USPS remains committed to understanding the needs of its customers and improving their experience. To demonstrate the value of products and services to USPS' customers, sales and marketing campaigns are often created to demonstrate the value that the Postal Service can offer. To understand which methods are working well and which can use improvement, USPS seeks to implement an application that allows for analysis of customers' direct engagement with campaign materials. This product will help USPS employees to identify possible trouble areas for customers and offer solutions to fit their needs.

To implement this application, USPS 890.000, Sales, Marketing, Events, and Publications will be modified as follows:

—Two new purposes, twelve and thirteen.

—One new category of records, Customer sharing and analytics data.

III. Description of the Modified System of Records

Pursuant to 5 U.S.C. 552a(e)(11), interested persons are invited to submit written data, views, or arguments on this proposal. A report of the proposed revisions has been sent to Congress and to the Office of Management and Budget for their evaluations. The Postal Service does not expect these amended systems of records to have any adverse effect on individual privacy rights. The notice for modifications to USPS 890.000, Sales, Marketing, Events, and Publications is provided below in its entirety:

SYSTEM NAME AND NUMBER:

USPS 890.000, Sales, Marketing, Events, and Publications.

SECURITY CLASSIFICATION:

None.

SYSTEM LOCATION:

USPS Headquarters Marketing and Public Policy; Integrated Business Solutions Services Centers; National Customer Service Center; Area and District USPS facilities; Post Offices; and contractor sites.

SYSTEM MANAGER(S):

Chief Customer and Marketing Officer and Executive Vice President, United States Postal Service, 475 L'Enfant Plaza SW, Washington, DC 20260-4016.

AUTHORITY FOR MAINTENANCE OF THE SYSTEM:

39 U.S.C. 401, 403, and 404.

PURPOSE(S) OF THE SYSTEM:

1. To understand the needs of customers and improve USPS sales and marketing efforts.

2. To provide appropriate materials and publications to customers.

3. To conduct registration for USPS and related events.

4. To enable access to the USPS meeting and video web conferencing application.

5. To enhance your online meeting experience by utilizing enhanced features and functionality, including voluntary polling to gather responses from attendees to generate reports or the interactive chat feature.

6. To facilitate team collaboration and communication through information sharing and cross-functional participation.

7. To provide users outside of the USPS limited collaboration and communication capabilities through guest account access.

8. To facilitate and support cybersecurity investigations of detected or reported information security incidents.

9. To share your personal image via your device camera during meetings and web conferences, if you voluntarily choose to turn the camera on, enabling virtual face-to-face conversations.

10. To provide pre-registration for guest access to online meetings and web conferences.

11. To facilitate and support marketing initiatives, advertising campaigns, brand strategy, customer experience with products and service, including call centers, strategic customer programs, and innovation and product improvement development.

12. To anticipate customer needs and provide appropriate recommendations.

13. To analyze sales and marketing campaign materials for effectiveness and engagement.

CATEGORIES OF INDIVIDUALS COVERED BY THE SYSTEM:

1. Customers who interact with USPS sales personnel, respond to direct marketing messages, request publications, respond to contests and surveys, voluntarily participate in focus groups, interviews, diaries, observational studies, prototype assessments, A/B comparison tests, and attend USPS events.

2. Customers and other individuals who participate in web-based meeting, video conference, collaboration, and communication applications sponsored by the USPS.

CATEGORIES OF RECORDS IN THE SYSTEM:

1. Customer information: Customer and key contacts' names, date of birth, age, home mailing address, and email address; phone, fax, and pager numbers; company name, job descriptions, titles, roles, level, and company address; other names and emails provided by customers.

2. Identifying information: Customer ID(s), D-U-N-S Numbers, USPS account numbers, meter numbers, and signatures.

3. Business specific information: Firm name, size, and years in business; number of employees; sales and revenue information; business sites and locations; URLs; company age; industrial classification numbers; use of USPS and competitor's products and services; types of customers served; customer equipment and services; advertising agency and spending; names of USPS employees serving the firm; and calls made.

4. Information specific to companies that act as suppliers to USPS: Contract start and end dates, contract award number, contract value, products and/or services sold under contract.

5. Information provided by customers as part of a survey or contest.

6. Payment information: Credit and/or debit card number, type, expiration date, and check information; and ACH information.

7. Event information: Name of event; role at event; itinerary; and membership in a PCC.

8. Customer preferences: Preferences for badge name and accommodations.

9. Survey data: customer perception, feelings, habits, past behaviors, preferences, recommended improvements, willingness to buy, ownership, and hypothetical future scenarios.

10. Participant session data from web-based meetings and web conferences: Participant name, participant's webcam-generated image (including presenters), recorded participant audio, video, and shared meeting screen content, chat interaction, polling questions and associated responses, participant join time and leave time, meeting duration, participant location, and participant media hardware information, Participant Job Information, Participant Stated Locale, Participant Connection Type, Participant Data Center, Participant Device Type, Participant Domain, Participant Full Data Center, Participant Hard Disk ID, Participant ID, Participant IP Address, Participant Join Time, Participant Camera Name, Participant MAC Address, Participant Microphone Name, Participant Network Type, Participant PC Name, Participant Role, Participant Share Settings, Participant Speaker Name, Participant Status, Participant User ID, Participant User Name, Participant Zoom, Participant SIP URL, Participant Leave Reason, Participant AS Input, Participant AS Output, Participant Audio Input, Participant Audio Output, Participant CPU Usage, Participant Video Input, Participant Video Output, Participant Quality, Participant Sharing Details, Participant Recording Details.

11. Device data from web-based meetings and web conferences: Device type (such as mobile, desktop, or tablet), Device Operating System, Number of users of related Operating Systems, Operating System Version, Operating System Type, MAC address, and IP address, hard disk ID, PC Name, Bluetooth Information, Packet Loss, internet Connection Type, Bluetooth Device Name, Bluetooth Device Type, Device Architecture, Central Processing Unit (CPU) Core Type, CPU core frequency, CPU Brand, Available Memory, Total CPU Capacity, Total Capacity Utilized by Application, Memory Used by Application, API Permissions, API Authentication, Authentication Secret Key, Graphics Processing Unit (GPU) Brand, GPU Type, Custom Attributes Defined by Organization, Archived Meeting Files, Archive Meeting Account Name, Archived Meeting File Download User, Archived Meeting File Extension, Archived Meeting File Size, Archived Meeting File Type, Archived Meeting File ID, Archived Meeting File Participant Email, Archived Meeting Participant Join Time, Archived Meeting Participant Leave Time, Archived Meeting File Recording Type, Archived Meeting File Status, Archived Meeting Complete Time, Archived Meeting Complete Time Duration, Archived Meeting Duration, Archived Meeting Duration In Seconds, Archived Meeting Host ID, Archived Meeting ID, Archived Meeting Settings, Archived Meeting Type, Archived Meeting Recording Count, Archived Meeting Start Time, Archived Meeting Topic, Archived Meeting Total Size, Archived Meeting UU ID, Past Meeting Participant ID, Past Meeting Participant Name, Past Meeting Participant Email, SIP Phone Authorization Name, SIP Phone Domain, SIP Phone ID, SIP Phone Password, SIP Phone Proxy Servers, SIP Phone Register Servers, SIP Phone Registration Expire Time, SIP Phone Transport Protocols, SIP Phone User Email, SIP Phone User Name, SIP Phone Voice Voicemail.

12. User data from web-based meetings and web conferences: User Creation Date, User Department, User Email Address, User Employee ID, User Name, User System ID, User Chat Group Ids, User System Client Version, User Last Login Time, User Picture URL, User PMI, User Status, User Timezone, User Type, User Verified Status, User Password, User JID, User Language, User Manager, User Personal Meeting URL, User Role ID, User Role Name, User Use PMI Status, User Phone Country, User Company, User Custom Attributes, User CMS User ID, User Pronouns, User Vanity Name, User Assistant Email, User Assistant ID, User Permissions, User Presence Status, User Scheduler Email, User Scheduler ID, User Settings, User Token, User Meeting Minutes, User Number Of Meetings, User Participant Number, User's Web Conferences Template, User Scheduled Web Conferences, User Web Conferences Settings, User Web Conferences Recurrence Settings, User Web Conferences Password, User Web Conferences Agenda, User Web Conferences Duration, User Web Conferences Start Time, User Web Conferences Template ID, User Web Conferences Topic. User Web Conferences Tracking Fields, User Web Conferences Time zone User Web Conferences Created Date, User Web Conferences Host ID, User Web Conferences Type, User Web Conferences UU ID, User Web Conferences Start URL, User TSP Account Conference Code, User TSP Account Dial-In Numbers, User TSP Account ID, User TSP Account Leader PIN, User TSP account TSP Bridge, User TSP Audio URL, Chat Messaging Content.

13. Web-based meeting and web conference administration data: Account Administrator Name, Account Contact Information Account ID, Account Billing Information, Account Plan Information, Conference Room Account type, Conference Room calendar name, conference room camera name, conference room device IP address, conference room email address, conference room health, conference room ID, conference room issues, conference room last start time, conference room microphone name, conference room name, conference room speaker name, conference room status, Conference Room live meeting, Conference Room past meetings, conference room activation code, conference room support email, conference room support phone, conference room passcode, conference room settings, conference room location description, conference room location name, User Sign In And Sign Out Times, Deleted Message Sender, Deleted Message Time, Deleted Message ID, Deleted Message Text, Deleted Message Main Message ID, Deleted Message Main Message Timestamp, Deleted Message File Name, Deleted Message File Size, Edited Message Sender, Edited Message Time, Edited Message ID, Edited Message Text, Edited Message Main Message ID, Edited Message Main Message Timestamp, Edited Message File Name, Edited Message File Size, Message Sender, Message Time, Message ID, Message Main Message ID, Message Main Message Timestamp, Message File, Message File Size, Group admin name, Group admin email, group admin ID, group member email, group member first name, group member last name, group member ID, group member type, chat group ID, chat group name, chat croup total members, chat group, Files sent through chat, GIPHYs sent through chat, groups sent through chat, p2p sent through chat, text sent through chat, total sent through chat, audio sent through chat, code snippet sent through chat, Operation Log action, operation log category type, operation log operation detail, operation log user, operation log time, Role member department, role member email, role member first name, role member ID, role member type, client feedback detail email, client feedback detail meeting ID, client feedback detail participant name, client feedback detail time.

14. Web-Based Meeting And Web Conference Telemetry Data: Event Time, Client Type, Event Location, Event, Subevent, UUID, Client Version, UserID, Client OS, Meeting ID.

15. Chat Application Telemetry Data: User Email, Group Chat, Message Type, In Meeting Message, Status, Do Not Disturb Time, Notification Setting, Show Group On Contact List, File Type, File Location, Link URL, Keywords, GIF Keywords, Emoji Code, Audio Setting, Video Setting, Is E2E Enabled, Message ID, IP Address.

16. Communication Data: Deleted Persistent Message Sender, Deleted Persistent Message Time, Deleted Persistent Message ID, Deleted Persistent Message Text, Deleted Persistent Message Main Message ID, Deleted Persistent Message Main Message Timestamp, Deleted Persistent Message File Name, Deleted Persistent Message File Size, Edited Persistent Message Sender, Edited Persistent Message Time, Edited Persistent Message ID, Edited Persistent Message Text, Edited Persistent Message Main Message ID, Edited Persistent Message Main Message Timestamp, Edited Persistent Message File Name, Edited Persistent Message File Size, Persistent Message Sender, Persistent Message Time, Persistent Message ID, Persistent Message Main Message ID, Persistent Message Main Message Timestamp, Persistent Message File, Persistent Message File Size, Persistent Message Images Exchanged, Persistent Message Files Exchanged, Persistent Message Videos Exchanged, Persistent Message Channel Title, Persistent Message Whiteboard Annotations, Persistent Message Text, Deleted Message Sender, Deleted Message Time, Deleted Message ID, Deleted Message Text, Deleted Message Main Message ID, Deleted Message Main Message Timestamp, Deleted Message File Name, Deleted Message File Size, Edited Message Sender, Edited Message Time, Edited Message ID, Edited Message Text, Edited Message Main Message ID, Edited Message Main Message Timestamp, Edited Message File Name, Edited Message File Size, Message Sender, Message Time, Message ID, Message Main Message ID, Message Main Message Timestamp, Message File, Message File Size, Message Text.

17. Survey data: customer perception, feelings, habits, past behaviors, preferences, recommended improvements, willingness to buy, ownership, and hypothetical future scenarios.

18. Customer sharing and analytics data: Analytics program shared by email address, analytics program shared to email address, Analytics program shared by name, Analytics program report data, Analytics shared document viewed count, Analytics shared document viewer email address, Analytics shared document viewer name, Analytics shared document reports. custom web page view count, custom web page shared by email address, custom web page shared to email address, custom web page shared by name, custom web page shared to name, custom web page share number, custom web page share views, custom web page user insights, customer sharing program usage report data, customer meeting insights.

RECORD SOURCE CATEGORIES:

Customers, USPS personnel, and list providers.

ROUTINE USES OF RECORDS MAINTAINED IN THE SYSTEM, INCLUDING CATEGORIES OF USERS AND THE PURPOSES OF SUCH USES:

Standard routine uses 1. through 7., 10., and 11. apply.

POLICIES AND PRACTICES FOR STORAGE OF RECORDS:

Automated databases, computer storage media, and paper.

POLICIES OF PRACTICES FOR RETRIEVAL OF RECORDS:

1. For sales, events, and publications, information is retrieved by customer name or customer ID(s), mail or email address, and phone number.

2. For direct marketing, information is retrieved by Standard Industry Code (SIC) or North American Industry Classification System (NAISC) number, and company name.

3. Report and tracking data created during web-based meetings and video conferences that pertain to individual participants, content shared, conference codes and other relevant session data and historical device usage data, are retrieved by meeting ID, host name or host email address.

4. Records pertaining to web-based collaboration and communication applications are retrieved by organizer name and other associated personal identifiers.

5. Media recordings created during web-based meetings and video conferences are retrieved by meeting ID, host name or host email address.

6. Web-based meeting and video session recordings are retrieved by meeting ID, host name or host email address.

7. Customer Insight materials are retrieved by name and email address.

POLICIES AND PRACTICES FOR RETENTION AND DISPOSAL OF RECORDS:

1. Records relating to organizations and publication mailing lists are retained until the customer ceases to participate.

2. ACH records are retained up to 2 years. Records relating to direct marketing, advertising, and promotions are retained 5 years.

3. Other records are retained 3 years after the relationship ends.

4. Report and tracking data created during web-based meeting and video conferences, such as session data and historical device usage data, are retained for twenty-four months.

5. Records pertaining to web-based collaboration and communication applications are retained for twenty-four months.

6. Web-based meeting and video session recordings are retained for twenty-four months.

7. Customer insight, market research, and survey records will be retained for 3 years.

Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections.

Computers are protected by mechanical locks, card key systems, or other physical access control methods. The use of computer systems is regulated with installed security software, computer logon identifications, and operating system controls including access controls, terminal and transaction logging, and file management software. Online data transmission is protected by encryption.

RECORD ACCESS PROCEDURES:

Requests for access must be made in accordance with the Notification Procedure above and USPS Privacy Act regulations regarding access to records and verification of identity under 39 CFR 266.5.

CONTESTING RECORD PROCEDURES:

See Notification Procedure and Record Access Procedures above.

NOTIFICATION PROCEDURES:

For information pertaining to sales, inquiries should be addressed to: Sales and Customer Relations 475 L'Enfant Plaza SW, Washington, DC 20260.

Customers wanting to know if other information about them is maintained in this system of records must address inquiries in writing to the Chief Customer and Marketing Officer and Executive Vice President and include their name and address.

EXEMPTIONS PROMULGATED FOR THE SYSTEM:

None.

HISTORY:

August 4, 2020, 85 FR 47258; June 1, 2020, 85 FR 33208; October 24, 2011, 76 FR 65756; April 29, 2005, 70 FR 22516.

Kevin Rayburn,
Attorney, Ethics and Legal Compliance.

[FR Doc. 2025-06117 Filed 4-9-25; 8:45 am]

BILLING CODE 7710-12-P